FEDERAL ELECTION COMMISSION

Sunshine Act Meetings

FEDERAL REGISTER CITATION OF PREVIOUS ANNOUNCEMENT: 86 FR 67468.

PREVIOUSLY ANNOUNCED TIME AND DATE OF THE MEETING: Thursday, December 2, 2021, following the conclusion of the audit hearing. virtual meeting.

CHANGES IN THE MEETING: The following matter was also considered: Audit Division Recommendation Memorandum on the Republican Party of Minnesota—Federal (A19-09).

CONTACT PERSON FOR MORE INFORMATION: Judith Ingram, Press Officer, Telephone: (202) 694-1220.

Authority: Government in the Sunshine Act, 5 U.S.C. 552b.

Vicktoria J. Allen,
Acting Deputy Secretary of the Commission.

[FR Doc. 2021-26546 Filed 12-3-21; 11:15 am]

BILLING CODE 6715-01-P